Title 3—

The President

Notice of November 21, 2012—Waiver From Rescission of Unobligated Funds Under the American Recovery and Reinvestment Act of 2009

Correction

In Presidential document 2012-28856 beginning on page 70883 in the issue of Tuesday, November 27, 2012, make the following correction:

On page 70883, the document identification heading on line one should read “Notice of November 21, 2012”.

[FR Doc. C1-2012-28856

Filed 01-31-2013; 8:45 am]

Billing code 1505-01-D